DEPARTMENT OF ENERGY

Federal Energy Regulatory Commission

Combined Notice of Filings #1

Take notice that the Commission received the following electric corporate filings:

Docket Numbers: EC13-93-000.

Applicants: Ameren Energy Generating Company, AmerenEnergy Resources Generating Company, Ameren Energy Marketing Company, Electric Energy, Inc., Midwest Electric Power, Inc., AmerenEnergy Medina Valley Cogen, L.L.C., Dynegy Inc.

Description: Response to July 26, 2013 letter requesting additional information of Ameren Energy Generating Company, et al.

Filed Date: 8/5/13.

Accession Number: 20130805-5409.

Comments Due: 5 p.m. ET 8/19/13

Take notice that the Commission received the following electric rate filings:

Docket Numbers: ER10-2997-002; ER10-3018-002; ER10-3030-002; ER10-2992-002; ER10-3003-002; ER10-3015-002; ER10-2990-002; ER10-3016-002.

Applicants: Atlantic City Electric Company, Delmarva Power & Light Company, Potomac Electric Power Company, Pepco Energy Services, Inc., Bethlehem Renewable Energy, LLC, Eastern Landfill Gas, LLC, Potomac Power Resources, Inc., Fauquier Landfill Gas, LLC.

Description: Application for Category 2 Exemption in the Northeast Region of the PHI Entities.

Filed Date: 8/5/13.

Accession Number: 20130805-5408.

Comments Due: 5 p.m. ET 8/26/13.

Docket Numbers: ER12-1643-003.

Applicants: ISO New England Inc., New England Power Pool Participants Committee.

Description: Order 755 Reg. Market Compliance Changes to be effective 10/1/2014 .

Filed Date: 8/5/13.

Accession Number: 20130805-5191.

Comments Due: 5 p.m. ET 8/26/13.

Docket Numbers: ER13-1903-000; ER13-1904-000.

Applicants: MET New York Trading LLC, MET West Trading LLC.

Description: Updated Appendix B to July 8, 2013 MET New York Trading LLC and MET West Trading LLC tariff filing.

Filed Date: 8/6/13.

Accession Number: 20130806-5058.

Comments Due: 5 p.m. ET 8/27/13.

Docket Numbers: ER13-2110-000.

Applicants: ISO New England Inc., New England Power Pool Participants Committee.

Description: MR1 Rev. Relating to Seasonal Claimed Cap and Aud for Net-Met Gen to be effective 10/7/2013.

Filed Date: 8/5/13.

Accession Number: 20130805-5278.

Comments Due: 5 p.m. ET 8/26/13.

Docket Numbers: ER13-2111-000.

Applicants: Fairless Energy, LLC.

Description: Compliance Filing—Single MBR Tariff Nuclear Waiver Affiliate Restrictions to be effective 8/6/2013.

Filed Date: 8/5/13.

Accession Number: 20130805-5321.

Comments Due: 5 p.m. ET 8/26/13.

Docket Numbers: ER13-2112-000.

Applicants: Genesis Solar, LLC.

Description: Genesis Solar, LLC Market-Base Rate Application to be effective 10/1/2013.

Filed Date: 8/5/13.

Accession Number: 20130806-5002.

Comments Due: 5 p.m. ET 8/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2013.
Nathaniel J. Davis, Sr.,
Deputy Secretary.

[FR Doc. 2013-19588 Filed 8-13-13; 8:45 am]

BILLING CODE 6717-01-P